DEPARTMENT OF COMMERCE

International Trade Administration

[A-351-860, A-834-812, A-557-828]

Ferrosilicon From Brazil, Kazakhstan, and Malaysia: Postponement of Preliminary Determinations in the Less-Than-Fair-Value Investigations

AGENCY: Enforcement and Compliance, International Trade Administration, Department of Commerce.

DATES: Applicable August 16, 2024.

FOR FURTHER INFORMATION CONTACT: Jaron Moore (Brazil) at (202) 482-3640; Samantha Kinney (Kazakhstan) at (202) 482-2285; Peter Farrell (Malaysia) at (202) 482-2104, AD/CVD Operations, Enforcement and Compliance, International Trade Administration, U.S. Department of Commerce, 1401 Constitution Avenue NW, Washington, DC 20230.

SUPPLEMENTARY INFORMATION:

Background

On April 17, 2024, the U.S. Department of Commerce (Commerce) initiated less-than-fair-value (LTFV) investigations on imports of ferrosilicon from Brazil, Kazakhstan, and Malaysia.¹ On July 22, 2024, Commerce tolled certain deadlines in these administrative proceedings by seven days.² The deadline for the preliminary determinations is now September 11, 2024.

¹ See Ferrosilicon from Brazil, Kazakhstan, Malaysia, and the Russian Federation: Initiation of Less-Than-Fair-Value Investigations, 89 FR 31137 (April 24, 2024).

² See Memorandum, “Tolling of Deadlines for Antidumping and Countervailing Duty Proceedings,” dated July 22, 2024.

Postponement of Preliminary Determinations

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

Brazil, Kazakhstan, and Malaysia

On July 31, 2024, the petitioners ³ submitted a timely request that Commerce postpone the preliminary determinations in the LTFV investigations.⁴ The petitioners stated that they requested the postponement because Commerce either has not yet received, or has only just recently received, full initial questionnaire responses from the mandatory respondents in all three investigations and additional time is necessary to allow Commerce and petitioners “to fully develop the record, and to review and comment upon the original and any supplemental responses.” ⁵

³ The petitioners are CC Metals and Alloys, LLC and Ferroglobe USA, Inc.

⁴ See Petitioners' Letter, “Petitioners' Request to Postpone Preliminary Antidumping Duty Determinations,” dated July 31, 2024.

⁵ Id.

For the reason stated above and because there are no compelling reasons to deny the request, Commerce, in accordance with section 733(c)(1)(A) of the Act, is postponing the deadline for the preliminary determinations by 50 days (i.e., 190 days after the date on which these investigations were initiated). As a result, Commerce will issue its preliminary determinations no later than October 31, 2024.⁶ In accordance with section 735(a)(1) of the Act and 19 CFR 351.210(b)(1), the deadline for the final determinations of these investigations will continue to be 75 days after the date of the preliminary determinations, unless postponed at a later date.

⁶ This deadline has been tolled by seven days. See footnote 2, supra.

This notice is issued and published pursuant to section 733(c)(2) of the Act and 19 CFR 351.205(f)(1).

Dated: August 12, 2024.
Ryan Majerus,
Deputy Assistant Secretary for Policy and Negotiations, performing the non-exclusive functions and duties of the Assistant Secretary for Enforcement and Compliance.

[FR Doc. 2024-18384 Filed 8-15-24; 8:45 am]

BILLING CODE 3510-DS-P